DEPARTMENT OF COMMERCE

National Oceanic and Atmospheric Administration

50 CFR Part 648

[I.D. 060302A]

New England Fishery Management Council; Public Meeting

AGENCY: National Marine Fisheries Service (NMFS), National Oceanic and Atmospheric Administration (NOAA), Commerce.

ACTION: Public meeting.

SUMMARY: The New England Fishery Management Council (Council) will hold a 3-day Council meeting on June 24 through 26, 2002, to consider actions affecting New England fisheries in the U.S. exclusive economic zone (EEZ).

DATES: The meeting will be held on Monday, Tuesday, and Wednesday, June 24, 25, and 26, 2002. The meeting will begin at 9:00 a.m. on Monday and at 8:00 a.m. on Tuesday and Wednesday.

ADDRESSES: The meeting will be held at the Samoset Resort, 220 Warrenton Street, Rockport, ME 04856; telephone (207) 594-2511. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Monday, June 24, 2002

Following introductions, the Council will consider approval of Skate Committee recommendations concerning outstanding issues related to the submission of the Draft Skate Fishery Management Plan (FMP) and Draft Environmental Impact Statement to NMFS. The Council also will review and possibly approve the concept of incorporating skates into the multispecies complex in a future amendment to the Northeast Multispecies (Groundfish) FMP. The Council will consider monkfish management issues for the remainder of the day. Members are scheduled to approve management alternatives for inclusion in Amendment 2 to the Monkfish FMP and for purposes of analysis in the associated Draft Supplemental Environmental Impact Statement. Measures will include, but will not be limited to, revisions to the overfishing definition reference points, adjustments to the day-at-sea program, permit qualification criteria, and measures to reduce bycatch. The monkfish discussion will include review and approval of the Habitat Committee's recommendations for minimizing the impacts of monkfish fishing on Essential Fish Habitat.

Tuesday, June 25, 2002

The Council meeting will re-convene and begin with an overview of the measures under consideration to date for inclusion in Amendment 10 to the Atlantic Sea Scallop FMP. This will be followed by a discussion of a schedule for Framework Adjustment 15 to the FMP, with a focus on an adjustment to the days-at-sea allocations and a timeline for completion. The scallop agenda item also will include the Habitat Committee's recommendations for minimizing the impacts of scallop fishing on Essential Fish Habitat. Following the completion of this discussion, there will be a short open comment period during which the public may offer remarks on subjects relevant to Council business, but not on the agenda for this meeting. The day will end with a review of progress to date on the development of Amendment 13 to the Northeast Multispecies FMP. This will include the Scientific and Statistical Committee’s recommendations on the Reference Point Working Group Report prepared by NMFS and the adoption of status determination criteria.

Wednesday, June 26, 2002

The last day of the Council meeting will begin with reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. The remainder of the Council meeting will be spent on further addressing issues associated with Amendment 13 to the Northeast Multispecies FMP. These include recommendations from the Groundfish Advisory Panel on alternatives that will address fishing vessel capacity in the groundfish fishery, and a report from the Groundfish Plan Development Team (PDT)concerning its progress to develop management alternatives for presentation to the Council. The PDT may ask for further direction from the Council to complete its work.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: June 4, 2002.
John H. Dunnigan
Director, Office of Sustainable Fisheries, National Marine Fisheries Service.

[FR Doc. 02-14364 Filed 6-6-02; 8:45 am]

BILLING CODE 3510-22-S